DEPARTMENT OF THE INTERIOR

National Park Service

National Register of Historic Places; Notification of Pending Nominations and Related Actions

Nominations for the following properties being considered for listing or related actions in the National Register were received by the National Park Service before December 6, 2008. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by January 6, 2009.

J. Paul Loether,
Chief, National Register of Historic Places/National Historic Landmarks Program.

ARIZONA

Cochise County

Fry Pioneer Cemetery, Between 6th and 7th Sts., a half block N. of Fry Blvd., Sierra Vista, 08001312

Maricopa County

Bragg's Pies Building, 1301 Grand Ave., Phoenix, 08001313

CALIFORNIA

Tuolumne County

Cooper Cabin, Address Restricted, Emigrant Wilderness, 08001314

Stanislaus Branch, California Forest and Range Experiment Station, Forest Rd. 4N13B, Strawberry, 08001315

COLORADO

El Paso County

Chadbourn Spanish Gospel Mission, 402 S. Conejos St., Colorado Springs, 08001316

Montezuma County

Montezuma Valley National Bank and Store Building, 2-8 Main St., Cortez, 08001317

FLORIDA

Miami-Dade County

Fontainebleau Hotel, 4441 Collins Ave., Miami Beach, 08001318

GEORGIA

Cook County

United States Post Office—Adel, Georgia, 115 E. 4th St., Adel, 08001319

Jefferson County

Bartow Historic District, Roughly centered along U.S. Hwy. 221, U.S. Hwy. 319 and the CSX rail line, Bartow, 08001320

Troup County

Jones, R.M., General Store, 6926 Whitesville Rd., LaGrange, 08001321

MISSOURI

Greene County

St. Paul Block (Springfield, Missouri MPS AD), 401 S. Ave., Springfield, 08001322

Pemiscot County

Delmo Community Center, 1 Delmo St., Homestown, 08001323

MONTANA

Custer County

Holy Rosary Hospital, 310 N. Jordan and 2007 Clark St., Miles City, 08001324

Lake County

Olsson, Don E., House and Garage, 503 4th Ave., SW., Ronan, 08001325

PENNSYLVANIA

York County

Leibhart, Byrd, Site, Address Restricted, Long Level, 08001326

WISCONSIN

Ashland County

BIG BAY SLOOP shipwreck (sloop), (Great Lakes Shipwreck Sites of Wisconsin MPS) Address Restricted, La Pointe, 08001327

Columbia County

Bacon, Clara F., House, 509 Madison Ave., Lodi, 08001328

Lewis, Frank T. and Polly, House, 509 N. Main St., Lodi, 08001329

Manitowoc County

CONTINENTAL shipwreck (bulk carrier), (Great Lakes Shipwreck Sites of Wisconsin MPS) Address Restricted, Two Rivers, 08001330

Milwaukee County

LUMBERMAN shipwreck (schooner), (Great Lakes Shipwreck Sites of Wisconsin MPS) Address Restricted, Oak Creek, 08001331

In the interest of preservation the comment period for the following resource has been waived.

FLORIDA

Miami-Dade County

Fontainebleau Hotel, 4441 Collins Ave., Miami Beach, 08001318

Request for a boundary decrease has been made for the following resource:

FLORIDA

Leon County

Smoky Hollow Historic District, Roughly bounded by E. Lafayette St., CSX railroad tracks, Myers Park and Myers Park Ln., Tallahassee, 00001199

[FR Doc. E8-30323 Filed 12-19-08; 8:45 am]

BILLING CODE 4310-70-P